DEPARTMENT OF THE INTERIOR

Bureau of Reclamation

San Joaquin River Restoration Program

AGENCY: Bureau of Reclamation, Interior.

ACTION: Notice of Intent to prepare a Program Environmental Impact Statement/Environmental Impact Report (PEIS/EIR) and Notice of Scoping Meetings.

SUMMARY: Pursuant to the National Environmental Policy Act (NEPA) and the California Environmental Quality Act (CEQA), the Bureau of Reclamation (Reclamation) and the California Department of Water Resources (DWR) propose to prepare a PEIS/EIR for the San Joaquin River Restoration Program (Program). The proposed Program is expected to be implemented by Reclamation, Fish and Wildlife Service (USFWS), the National Marine Fisheries Service (NMFS), the California Department of Fish and Game (DFG), and the DWR.

DATES: Four scoping meetings will be held to solicit public input on alternatives, concerns, and issues to be addressed in the PEIS/EIR. The meeting dates are:

• Tuesday, August 28, 2007, 6 p.m. to 8:30 p.m., Tulare, CA

• Wednesday, August 29, 2007, 6 p.m. to 8:30 p.m., Fresno, CA

• Thursday, August 30, 2007, 6 p.m. to 8:30 p.m., Los Banos, CA

• Monday, September 10, 2007, 1:30 p.m. to 4 p.m., Sacramento, CA

Written comments on the scope of the PEIS/EIR should be sent by September 21, 2007 to Ms. Margaret Gidding, Bureau of Reclamation, 2800 Cottage Way MP-140, Sacramento, CA 95825 or via e-mail at mgidding@mp.usbr.gov.

ADDRESSES: The scoping meeting locations are:

• International Agri-Center, Banquet Hall, 4450 S. Laspina St., Tulare, CA 93274

• Piccadilly Inn, University, Ballroom, 4961 North Cedar Ave., Fresno, CA 93726

• Merced County Fairgrounds, Germino Room, 403 F St., Los Banos, CA 93635

• Library Galleria, 828 I St., Sacramento, CA 95814

FOR FURTHER INFORMATION CONTACT: Ms. Margaret Gidding at the above address, by telephone at 916-978-5104, TDD 916-978-5608 or via fax at 916-978-5114. Additional information is available online at http://www.restoresjr.com. If special assistance is required at one of the scoping meetings, please contact Ms. Margaret Gidding via the phone number or e-mail listed above no less than five working days prior to the meetings.

SUPPLEMENTARY INFORMATION: Development of the PEIS/EIR for the Program is being carried out under Congressional authorization granted to the Secretary of the Interior under section 3406(c)(1) of the Central Valley Project Improvement Act (CVPIA) and will serve as the initial planning and environmental review activities necessary to implement the Settlement described below.

In 1992, Congress passed the CVPIA (Pub. L. 102-575, Title XXXIV) in order to protect, restore, and enhance fish, wildlife, and associated habitats in California's Central Valley. Specifically, CVPIA Section 3406(c)(1) requires the Secretary of the Interior to “[d]evelop a comprehensive plan, which is reasonable, prudent, and feasible, to address fish, wildlife, and habitat concerns on the San Joaquin River, including but not limited to the streamflow, channel, riparian habitat, and water quality improvements that would be needed to reestablish where necessary and to sustain naturally reproducing anadromous fisheries from Friant Dam to its confluence with the San Francisco Bay/Sacramento-San Joaquin Delta Estuary.”

In 1988, a coalition of environmental groups, led by the Natural Resources Defense Council (NRDC), filed a lawsuit challenging the renewal of the long-term water service contracts between the United States and the Central Valley Project, Friant Division contractors. After more than 18 years of litigation of this lawsuit, known as the Natural Resources Defense Council et al., v. Rodgers, et al., a Settlement was reached. On September 13, 2006, the Settling Parties reached agreement on the terms and conditions of the Settlement which was subsequently approved by the Court on October 23, 2006. The “Settling Parties” include the NRDC, Friant Water Users Authority, and the Departments of the Interior and Commerce.

The Settlement is based on two parallel goals:

• To restore and maintain fish populations in “good condition” in the main stem of the San Joaquin River below Friant Dam to the confluence of the Merced River, including naturally reproducing and self-sustaining populations of salmon and other fish (Restoration Goal); and

• To reduce or avoid adverse water supply impacts to all of the Friant Division long-term contractors that may result from the Interim Flows and Restoration Flows provided for in the Settlement (Water Management Goal).

The Settlement states that the Secretary of the Interior will implement the terms and conditions of the Settlement. Additionally, the Settling Parties agreed that implementation of the Settlement will also require participation of the State of California (State). Therefore, concurrent with the execution of the Settlement, the Settling Parties entered into a Memorandum of Understanding (MOU) with the State (by and through the California Resources Agency, DWR, DFG, and the California Environmental Protection Agency) regarding the State's role in the implementation of the Settlement. The “implementing agencies”, which include Reclamation, USFWS, NMFS, DWR, and DFG, are responsible for the management of the Program to implement the Settlement.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: July 27, 2007.
John F. Davis,
Deputy Regional Director, Mid-Pacific Region.

[FR Doc. E7-15029 Filed 8-1-07; 8:45 am]

BILLING CODE 4310-MN-P